DEPARTMENT OF ENERGY

Federal Energy Regulatory Commission

[Project No. 2082-062; Project No. 14803-000]

PacifiCorp; Klamath River Renewal Corporation; Notice of Teleconference for Tribal Consultation Meeting

a. Project Names and Numbers: Klamath and Lower Klamath Hydroelectric Projects No. 2082 and 14803.

b. Project licensee: PacifiCorp and Klamath River Renewal Corporation.

c. Date and Time of Teleconference: Tuesday, July 9, 2019, from 1:00 p.m. to 3:00 p.m. Eastern Standard Time.

d. FERC Contact Jennifer Polardino, (202) 502-6437 or jennifer.polardino@ferc.gov.

e. Purpose of Meeting: Commission staff will hold a teleconference with the Yurok Tribe to discuss PacifiCorp and the Klamath River Renewal Corporation's (Renewal Corporation) application to transfer the Lower Klamath Project No. 14803, consisting of the J.C. Boyle, Copco No. 1, Copco No. 2, and Iron Gate developments, to the Renewal Corporation. If the Commission were to approve the transfer application, then in a separate proceeding, the Renewal Corporation would propose to surrender the project license and remove the above four developments.

f. Members of the public and intervenors in the referenced proceedings may attend the teleconference; however, participation will be limited to tribal representatives of the Yurok Tribe and the Commission's representatives. If the Yurok Tribe decides to disclose information about a specific location which could create a risk or harm to an archaeological site or Native American cultural resource, the public will be excused for that portion of the meeting when such information is disclosed. The teleconference meeting will be transcribed by a court reporter and the transcript will be placed in the public record of these proceedings.

g. Please call or email Jennifer Polardino at (202) 502-6437 or jennifer.polardino@ferc.gov by Monday, July 8, 2019, to RSVP and to receive the teleconference call-in information.

Dated: June 25, 2019.
Kimberly D. Bose,
Secretary.

[FR Doc. 2019-13972 Filed 6-28-19; 8:45 am]

BILLING CODE 6717-01-P